DEPARTMENT OF COMMERCE

National Oceanic and Atmospheric Administration

50 CFR Part 648

[I.D. 102006A]

New England and Mid-Atlantic Fishery Management Councils; Public Hearings

AGENCY: National Marine Fisheries Service (NMFS), National Oceanic and Atmospheric Administration (NOAA), Commerce.

ACTION: Rescheduling of a public hearing.

SUMMARY: NOAA Fisheries Service and the Mid-Atlantic Fishery Management Council (MAFMC) have rescheduled a public hearing on a draft amendment that would establish standardized bycatch reporting methodology (SBRM) for every fishery management plan (FMP). The New England and Mid-Atlantic Fishery Management Councils (Councils) previously announced public hearings and requested comment on the draft amendment (October 31, 2006). The New England Fishery Management Council's (NEFMC) hearing date is unchanged.

DATES: The MAFMC's public hearing will be on December 13, 2006, in New York City, NY. The NEFMC's public hearing will be on November 14, 2006, in Gloucester, MA. Written comments must be received at the appropriate address, e-mail address, or fax number (see ADDRESSES) by 5 p.m., local time, on December 29, 2006.

ADDRESSES: NMFS and the Councils will accept comments at two public hearings. For specific locations, see SUPPLEMENTARY INFORMATION. You may submit comments on the draft amendment by any of the following methods:

• E-mail: SBRMcomment@noaa.gov

• Mail: Patricia A. Kurkul, Regional Administrator, NOAA Fisheries Service, Northeast Regional Office, 1 Blackburn Drive, Gloucester MA 01930. Mark the outside of the envelope: “Comments on SBRM Amendment.”

• Fax: (978) 281-9135, Attention: Patricia A. Kurkul.

Copies of the draft SBRM amendment and the public hearing document may be obtained by contacting the NMFS Northeast Regional Office at the above address. The documents are also available via the internet at: http://www.nero.noaa.gov/nero/regs/com.html.

FOR FURTHER INFORMATION CONTACT: Michael Pentony, Senior Fishery Policy Analyst, (978) 281-6283.

SUPPLEMENTARY INFORMATION: The initial notice of the public hearings by both Councils was published in the Federal Register on October 31, 2006, (71 FR 63749). The New York City hearing has been moved one day to relieve a scheduling conflict.

Meeting Dates, Times, and Locations

The public hearings have been scheduled to coincide with the date and location of New England and Mid-Atlantic Fishery Management Council meetings.

Tuesday, November 14, 2006, at 5:30 p.m. - Tavern on the Harbor, 30 Western Ave., Gloucester, MA 01930, telephone: (978) 283-4200.

Wednesday, December 13, 2006, at 7 p.m. - Skyline Hotel, 725 10th Ave, New York, NY 10019, telephone: (212) 586-3400.

Special Accommodations

These hearings are physically accessible to people with disabilities. Requests for sign language interpretation or other auxiliary aids at the Gloucester, MA, meeting should be directed to Paul J. Howard, Executive Director, New England Fishery Management Council, 50 Water Street, Mill 2, Newburyport, MA 01950. Requests for such services at the New York, NY, meeting should be directed to M. Jan Saunders, (302) 674 2331 extension 18. Requests for accessibility accommodations must be received at least at least 5 days prior to the meeting dates.

Authority: 16 U.S.C. 1801 et seq.

Dated: November 09, 2006.
Alan D. Risenhoover,
Director, Office of Sustainable Fisheries, National Marine Fisheries Service.

[FR Doc. E6-19398 Filed 11-15-06; 8:45 am]

BILLING CODE 3510-22-S